DEPARTMENT OF HEALTH AND HUMAN SERVICES

Centers for Disease Control and Prevention

[Program Announcement 02025]

Cooperative Agreement for Epidemiologic Studies of Birth Defects and Developmental Disabilities, and the Promotion of Optimal Birth Outcomes in China; Notice of Availability of Funds

A. Purpose

The Centers for Disease Control and Prevention (CDC) announces the availability of fiscal year (FY) 2002 funds for a cooperative agreement program for epidemiologic studies of birth defects and other reproductive and developmental outcomes in China.

B. Eligible Applicant

Assistance will be provided only to the National Center for Maternal and Infant Health, Peking University Health Science Center, Beijing, People's Republic of China. No other applications are solicited.

The People's Republic of China (PRC) is the most appropriate country, and the Peking University Health Science Center (PUHSC) (formerly Beijing Medical University [BMU]) is the most appropriate institution to conduct the work under this cooperative agreement.

The National Center for Maternal and Infant Health (NCMIH) at PUHSC

Scientists at PUHSC have successfully collaborated with CDC on a large community intervention program of folic acid supplementation to prevent neural tube defects, including almost 250,000 women; and currently maintain surveillance of four large cohorts. These scientists have experience in all areas of birth defects research including clinical pediatrics and dysmorphology, epidemiology, public health, statistics, and laboratory science. Extensive data sets on perinatal health, birth outcome, and birth defects surveillance are maintained at PUHSC.

NCMIH functions as the national research center on health care, clinical epidemiology, and public health; and the national laboratory for reproductive health research. In addition, it is a national training center for professional technical personnel in medical epidemiological research and public health; an information management center for birth outcomes and reproductive health, and a consulting and advising center for the promotion of international academic exchange and cooperation.

Population Characteristics and Childbearing Practices in China

China has a large, stable, and relatively homogeneous population, registration for marriage is required, and virtually all pregnancies are planned. Women who may be eligible to participate in clinical trials or other birth defects prevention programs can therefore be identified early, at the time of registration for marriage.

Approximately 80 percent of women in China become pregnant within one year of marriage. In accordance with family planning practices, most women, particularly in urban areas, have only one child. Thus, the PRC is well-suited for evaluating interventions directed toward the prevention of birth defects and adverse pregnancy outcomes, or for studying varying doses and schedules of nutritional supplements without interfering with national recommendations for women who are newly married or planning a pregnancy.

China Public Health Priorities

Ensuring an optimal birth outcome is a national health priority in the PRC. In June 2001, the implementation procedure for the Maternal and Child Health Law (enacted July 1, 1995) was signed by Premier Zhu Rongji. Under the provisions of this law, all women are entitled to receive reproductive health services to ensure a healthy pregnancy and a healthy baby. As a result of the capabilities of the PUHSC, the Ministry of Health is expected to identify the NCMIH as the main technical unit for implementation of the law.

One of the major components of the implementation plan is the prevention of birth defects and reduction of infant mortality.

In addition, the Ministry of Science and Technology has taken responsibility for a number of projects to prevent birth defects and disabilities. Among these are (1) determining risk factors for congenital cardiac defects in China, (2) surveillance for congenital cardiac defects through prenatal and postnatal ultrasound examinations, and (3) identification of risk factors for birth defects in the high risk areas of Shanxi Province, and developmental of intervention strategies.

C. Availability of Funds

Approximately $1,000,000 is available in FY 2002 to fund this award. It is expected that the award will begin on or about June 3, 2002, and will be made for a 12-month budget period within a project period of up to five years. Funding estimates may change.

Continuation awards within an approved project period will be made on the basis of satisfactory progress as evidenced by required reports and the availability of funds.

All requests for funds contained in the budget shall be stated in U.S. dollars. Once an award is made, CDC will not compensate foreign grantees for currency exchange fluctuations through the issuance of supplemental awards.

a. Funds may be spent for reasonable program purposes, including personnel, travel, supplies, and services. Equipment may be purchased if deemed necessary to accomplish program objectives, however, prior approval by CDC officials must be requested in writing.

b. The applicant may contract with other organizations under this program. However, the applicant must perform a substantial portion of the activities including program management and operations.

D. Where To Obtain Additional Information

This and other CDC Announcements can be found on the CDC home page Internet address—http://www.cdc.gov click on “Funding” then “Grants and Cooperative Agreements.”

If you have questions after reviewing the contents of all the documents, business management technical assistance may be obtained from: Angelia Hill, Grants Management Specialist, International Grants and Contracts Branch, Procurement and Grants Office, Centers for Disease Control and Prevention (CDC), 2920 Brandywine Road, Room 3000, Atlanta, GA 30341-4146, Telephone: (770) 488-2785, email: aph8@cdc.gov.

Program Technical assistance, contact: R.J. Berry, MD, MPHTM—Medical Epidemiologist, National Center on Birth Defects, and Developmental Disabilities, Centers for Disease Control and Prevention, 4770 Buford Highway, N.E., MS F-45, Atlanta, GA 30341-3724, Telephone: (770) 488-3502, email: rjb1@cdc.gov.

Dated: February 8, 2002.
Rebecca O'Kelley,
Chief, International Grants and Contracts Branch, Centers for Disease Control and Prevention (CDC).

[FR Doc. 02-3605 Filed 2-13-02; 8:45 am]

BILLING CODE 4163-18-P